THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: February 9, 2009.

Time: 8:30 a.m. to 5 p.m.

Room: 315.

Program: This meeting will review applications for Archaeology: Old World in Collaborative Research, submitted to the Division of Research Programs, at the November 5, 2008 deadline.

2. Date: February 10, 2009.

Time: 8:30 a.m. to 5 p.m.

Room: 315.

Program: This meeting will review applications for Africa and Asia in Collaborative Research, submitted to the Division of Research Programs, at the November 5, 2008 deadline.

3. Date: February 17, 2009.

Time: 9:00 a.m. to 5 p.m.

Room: 415.

Program: This meeting will review applications for DFG/NEH Joint Digitization Program, submitted to the Office of Digital Humanities, at the October 15, 2008 deadline.

4. Date: February 17, 2009.

Time: 8:30 a.m. to 5 p.m.

Room: 315.

Program: This meeting will review applications for Literature, Philosophy, Music, and History of Science in Scholarly Editions, submitted to the Division of Research Programs, at the November 5, 2008 deadline.

5. Date: February 18, 2009.

Time: 8:30 a.m. to 5 p.m.

Room: 315.

Program: This meeting will review applications for Religion, Philosophy, History of Science, and Political Science in Collaborative Research, submitted to the Division of Research Programs, at the November 5, 2008 deadline.

6. Date: February 19, 2009.

Time: 8:30 a.m. to 5 p.m.

Room: 315.

Program: This meeting will review applications for American, British, and Anglophone Literature in Scholarly Editions, submitted to the Division of Research Programs, at the November 5, 2008 deadline.

7. Date: February 23, 2009.

Time: 8:30 a.m. to 5 p.m.

Room: 315.

Program: This meeting will review applications for Archaeology: New World in Collaborative Research, submitted to the Division of Research Programs, at the November 5, 2008 deadline.

8. Date: February 24, 2009.

Time: 8:30 a.m. to 5 p.m.

Room: 315.

Program: This meeting will review applications for Europe and Latin America in Collaborative Research, submitted to the Division of Research Programs, at the November 5, 2008 deadline.

9. Date: February 25, 2009.

Time: 8:30 a.m. to 5 p.m.

Room: 315.

Program: This meeting will review applications for American History in Scholarly Editions, submitted to the Division of Research Programs, at the November 5, 2008 deadline.

10. Date: February 26, 2009.

Time: 8:30 a.m. to 5 p.m.

Room: 315.

Program: This meeting will review applications for American Studies in Collaborative Research, submitted to the Division of Research Programs, at the November 5, 2008 deadline.

Michael P. McDonald,
Advisory Committee Management Officer.

[FR Doc. E9-1618 Filed 1-23-09; 8:45 am]

BILLING CODE 7536-01-P